DEPARTMENT OF ENERGY

Federal Energy Regulatory Commission

[Project No. 15058-001]

BOST2 Hydroelectric LLC; Notice of Surrender of Preliminary Permit

Take notice that BOST2 Hydroelectric LLC, permittee for the proposed Shawno County Pumped Storage Project No. 15058, has requested that its preliminary permit be terminated. The permit was issued on May 5, 2021, and would have expired on April 30, 2025.¹ The project would have been located near the Embarrass River and the Village of Tigerton, Shawano County, Wisconsin.

¹ 175 FERC ¶ 62,051 (2021).

The preliminary permit for Project No. 15058 will remain in effect until the close of business, thirty days from the date of this notice. But, if the Commission is closed on this day, then the permit remains in effect until the close of business on the next day in which the Commission is open.² New applications for this site may not be submitted until after the permit surrender is effective.

² 18 CFR 385.2007(a)(2) (2022).

Dated: June 21, 2023.
Kimberly D. Bose,
Secretary.

[FR Doc. 2023-13604 Filed 6-26-23; 8:45 am]

BILLING CODE 6717-01-P